DEPARTMENT OF COMMERCE

International Trade Administration

[A-412-822]

Stainless Steel Bar From the United Kingdom: Notice of Final Results of Changed Circumstances Review and Revocation of Order, in Part

AGENCY: Import Administration, International Trade Administration, Department of Commerce.

DATES: Effective Date: November 23, 2007.

SUMMARY: On October 11, 2007, the Department of Commerce (the Department) published a notice of initiation and preliminary results of a changed circumstances review for a partial revocation of the antidumping duty order on stainless steel bar from the United Kingdom with respect to SAF 2507 grade stainless steel bar. See Stainless Steel Bar from the United Kingdom: Notice of Initiation and Preliminary Results of Changed Circumstances Review, and Intent to Revoke Order in Part, 72 FR 57911 (October 11, 2007) (Initiation and Preliminary Results). We received no comments from interested parties objecting to the Initiation and Preliminary Results. Thus, we determine that changed circumstances exist to warrant revocation of the order, in part.

FOR FURTHER INFORMATION CONTACT: Kate Johnson or Rebecca Trainor, AD/CVD Operations, Office 2, Import Administration, International Trade Administration, U.S. Department of Commerce, 14th Street and Constitution Avenue, NW., Washington, DC 20230; telephone: (202) 482-4929 or (202) 482-4007, respectively.

SUPPLEMENTARY INFORMATION:

Background

On March 7, 2002, the Department published in the Federal Register an antidumping duty order on stainless steel bar from the United Kingdom. See Antidumping Duty Order: Stainless Steel Bar from the United Kingdom, 67 FR 10381 (March 7, 2002). On August 27, 2007, Swagelok Company (Swagelok), an interested party, requested that the Department initiate a changed circumstances review to exclude SAF 2507 grade stainless steel bar from the antidumping duty order on stainless steel bar from the United Kingdom. On September 18, 2007, the Domestic Industry ¹ submitted a letter affirming that it does not object to the exclusion of the product identified in Swagelok's August 27, 2007, request for a changed circumstances review. On September 21, 2007, the Domestic Industry submitted a statement affirming that its members account for substantially all of the U.S. production of stainless steel bar, exceeding 85 percent of total domestic production. On September 25, 2007, Sandvik Bioline, a U.K. producer of stainless steel bar, provided a technical description of the stainless steel bar product Swagelok requested to be excluded from the scope of the antidumping duty order.²

¹ Carpenter Technology Corp., Crucible Specialty Metals Division of Crucible Materials Corp., Electralloy Corp., North American Stainless, Universal Stainless & Alloy Products, Inc., and Valbruna Slater Stainless, Inc.

² Sandvik Bioline is the producer of the product which is the subject of Swagelok's changed circumstances review request.

On October 11, 2007, the Department published a notice of initiation and preliminary results of a changed circumstances review for a partial revocation of the antidumping duty order on stainless steel bar from the United Kingdom with respect to SAF 2507 grade bar. See Initiation and Preliminary Results. On October 25, 2007, the Domestic Industry submitted a letter reiterating that it does not object to the exclusion of SAF 2507 grade bar from the order.

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the scope does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

Also excluded from the scope of the order is grade SAF 2507 stainless steel bar. SAF 2507 is cold worked and finished Super Duplex stainless steel bar material having either a round or hexagonal cross section, conforming to UNS S32750, having a minimum elevated tensile strength in excess of 140 KSI, and a PRE (pitting resistant equivalent) value of 42.5 minimum, supplied in straight bar lengths. SAF 2507 grade stainless steel bar is currently classified under HTSUS subheadings 7222.20.00.45 and 7222.20.00.75.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, the written description of the scope of this order is dispositive.

Final Results of Changed Circumstances Review and Revocation of Order in Part

Pursuant to sections 751(d)(1) and 782(h)(2) of the Tariff Act of 1930, as amended (the Act), the Department may partially revoke an antidumping duty order based on a review under section 751(b) of the Act (i.e., a changed circumstances review). Section 751(b)(1) of the Act requires a changed circumstances review to be conducted upon receipt of a request which shows changed circumstances sufficient to warrant a review.

In the instant review, based on the information provided by Swagelok and the lack of interest on the part of the Domestic Industry, the Department found preliminarily that the continued relief provided by the order with respect to the product in question from the United Kingdom is no longer of interest to the Domestic Industry. See Initiation and Preliminary Results. We did not receive any comments objecting to our preliminary results. Therefore, the Department is partially revoking the order on stainless steel bar from the United Kingdom with respect to grade SAF 2507 stainless steel bar, as described in the Scope of the Order section of this notice.

We will instruct U.S. Customs and Border Protection (CBP) to liquidate without regard to antidumping duties and to refund any estimated antidumping duties collected on entries of all shipments of the product in question that are not covered by the final results of an administrative review or automatic liquidation. The most recent period for which the Department has completed an administrative review or ordered automatic liquidation under 19 CFR 351.212(c) is March 1, 2006, through February 28, 2007. Any prior entries are subject to either the final results of review or automatic liquidation. Therefore, we will instruct CBP to liquidate, without regard to antidumping duties, shipments of stainless steel bar from the United Kingdom meeting the specifications of the product in question entered, or withdrawn from warehouse, for consumption on or after March 1, 2007. We will also instruct CBP to release any cash deposits or bonds and pay interest on such refunds in accordance with section 778 of the Act and 19 CFR 351.222(g)(4). The Department intends to issue assessment instructions to CBP 15 days after the date of publication of these final results of review.

This notice serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This determination is issued and published in accordance with sections 751(b)(1) and 777(i)(1) of the Act and 19 CFR 351.216.

Dated: November 15, 2007.
David M. Spooner,
Assistant Secretary for Import Administration.

[FR Doc. E7-22865 Filed 11-21-07; 8:45 am]

BILLING CODE 3510-DS-P